DEPARTMENT OF VETERANS AFFAIRS

Capital Asset Realignment for Enhanced Services (CARES) Commission; Notice of Meeting

The Department of Veterans Affairs (VA) gives notice under Public Law 92-463 (Federal Advisory Committee Act) that the Capital Asset Realignment for Enhanced Services (CARES) Commission will hold a meeting on December 18, 2003, at the Hotel Washington, Pennsylvania Avenue at 15th Street, NW., Washington, DC 20004. The meeting will begin at 10 a.m. and will end at 4 p.m. and is open to the public.

The purpose of the Commission is to conduct an external assessment of VA's capital asset needs and to assure that stakeholder and beneficiary concerns are fully addressed. The Commission is reviewing and reaching decisions on recommendations in the Draft National CARES Plan. The Commission also takes into consideration recommendations submitted by veterans service organizations, individual veterans, Congress, medical and nursing school affiliates, VA employees, local governments, community groups and others. Following its assessment, the Commission will make specific recommendations to the Secretary of Veterans Affairs on the realignment and allocation of VA capital assets to meet the demand for, and to enhance, veterans health care services over the next 20 years.

At the December 18 meeting, the Commission will conclude its review of the information received from nationwide site visits, public hearings, and various requests for data as well as information discussed in its regular public meetings. The Commission will engage in final deliberations regarding the Draft National CARES Plan and its impact in the various markets, and make decisions regarding its report to the Secretary.

No time will be allocated at these meetings for receiving oral presentations from the public. Any member of the public wishing additional information should contact Mr. Richard E. Larson, Executive Director, CARES Commission, at (202) 501-2000.

Dated: November 28, 2003.
By Direction of the Secretary.
E. Philip Riggin,
Committee Management Officer.

[FR Doc. 03-30227 Filed 12-4-03; 8:45 am]

BILLING CODE 8320-01-M